FEDERAL ELECTION COMMISSION

Sunshine Act; Meetings

DATE AND TIME: Tuesday, November 15, 2005 at 9:30 a.m.

PLACE: 999 E Street, NW., Washington, DC (ninth floor).

STATUS: This hearing will be open to the public.

MATTER BEFORE THE COMMISSION:

Notice of Proposed Rulemaking: Definitions of “Solicit” and “Direct.”

Note: This meeting will begin at 2:30 p.m.

DATE AND TIME: Tuesday, November 15, 2005 at 2:30 p.m.

PLACE: 999 E Street, NW., Washington, DC.

STATUS: This meeting will be closed to the public.

ITEMS TO BE DISCUSSED:

Compliance matters pursuant to 2 U.S.C. 437g.

Audits conducted pursuant to 2 U.S.C. 437g, 438(b), and Title 26, U.S.C.

Internal personnel rules and procedures or matters affecting a particular employee.

DATE AND TIME: Thursday, November 17, 2005 at 10 a.m.

PLACE: 999 E Street, NW., Washington, DC (ninth floor).

STATUS: This meeting will be open to the public.

ITEMS TO BE DISCUSSED:

Correction and Approval of Minutes.

Advisory Opinion 2005-16: Fired Up! LLC, by counsel, Marc E. Elias and Brian G. Svoboda.

Advisory Opinion 2005-18: U.S. Representative Silvestre Reyes.

Routine Administrative Matters.

PERSON TO CONTACT FOR INFORMATION: Mr. Robert Biersack, Press Officer, Telephone (202) 694-1220.

Mary W. Dove,
Secretary of the Commission.

[FR Doc. 05-22565 Filed 11-8-05; 3:31 pm]

BILLING CODE 6715-01-M